FEDERAL MARITIME COMMISSION

Agency Information Collection Activities: 60-Day Public Comment Request

AGENCY: Federal Maritime Commission.

ACTION: Notice and request for comment.

SUMMARY: As part of our continuing effort to reduce paperwork and respondent burden, and as required by the Paperwork Reduction Act of 1995, the Federal Maritime Commission (Commission) invites comments on the continuing information collection (an extension with no change) listed below in this notice.

DATES: Written comments must be submitted on or before February 13, 2017.

ADDRESSES: Address all comments to: Karen V. Gregory, Managing Director, Office of the Managing Director, Federal Maritime Commission, 800 North Capitol Street NW., Washington, DC 20573, Phone: (202) 523-5800, Email: omd@fmc.gov.

FOR FURTHER INFORMATION CONTACT: A copy of the information collection, or copies of any comments received, may be obtained by contacting Donna Lee at (202) 523-5800 or email at dlee@fmc.gov.

SUPPLEMENTARY INFORMATION:

Request for Comments

The Commission, as part of its continuing effort to reduce paperwork and respondent burden, invites the general public and other Federal agencies to comment on the continuing information collection listed in this notice, as required by the Paperwork Reduction Act of 1995 (44 U.S.C. 3501 et seq.).

Comments submitted in response to this notice will be included or summarized in our request for Office of Management and Budget (OMB) approval of the relevant information collection. All comments received, including attachments, are part of the public record and subject to disclosure. Please do not include any confidential material or material that you consider inappropriate for public disclosure. We invite comments on: (1) The necessity and utility of the proposed information collection for the proper performance of the agency's functions; (2) the accuracy of the estimated burden; (3) ways to enhance the quality, utility, and clarity of the information to be collected; and (4) the use of automated collection techniques or other forms of information technology to minimize the information collection burden.

Information Collection Open for Comment

Title: 46 CFR part 540—Application for Certificate of Financial Responsibility/Form FMC-131.

OMB Approval Number: 3072-0012 (Expires February 28, 2017).

Abstract: Sections 2 and 3 of Public Law 89-777 (46 U.S.C. 44101-44106) require owners or charterers of passenger vessels with 50 or more passenger berths or stateroom accommodations and embarking passengers at United States ports and territories to establish their financial responsibility to meet liability incurred for death or injury to passengers and other persons, and to indemnify passengers in the event of nonperformance of transportation. The Commission's regulations at 46 CFR part 540 implement Public Law 89-777 and specify financial responsibility coverage requirements for such owners and charterers.

Current Actions: There are no changes to this information collection, and it is being submitted for extension purposes only.

Type of Review: Extension.

Needs and Uses: The information will be used by the Commission's staff to ensure that passenger vessel owners and charterers have evidenced financial responsibility to indemnify passengers and others in the event of nonperformance or casualty.

Frequency: This information is collected when applicants apply for a certificate or when existing certificants change any information in their application forms.

Affected Public Who Will Be Asked or Required to Respond: Respondents are owners, charterers, and operators of passenger vessels with 50 or more passenger berths that embark passengers from U.S. ports or territories.

Number of Annual Respondents: The Commission estimates the total number of respondents at 47 annually.

Estimated Time per Response: The time per response ranges from 0.5 to 8 hours for reporting and recordkeeping requirements contained in the regulations, and 8 hours for completing Application Form FMC-131.

Total Annual Burden: The Commission estimates the total burden at 1,359 hours per year.

Rachel E. Dickon,
Assistant Secretary.

[FR Doc. 2016-29851 Filed 12-12-16; 8:45 am]

BILLING CODE 6731-AA-P